DEPARTMENT OF ENERGY

Federal Energy Regulatory Commission

[Docket Nos. CP06-19-000; CP06-20-000; CP06-21-000]

Unocal Windy Hill Gas Storage, LLC; Notice of Application

November 9, 2005.

Take notice that on November 2, 2005, Unocal Windy Hill Gas Storage, LLC (Windy Hill), 14141 Southwest Freeway, Sugar Land, Texas 77478, filed in the above referenced dockets, an application pursuant to section 7(c) of the Natural Gas Act (NGA), requesting: (i) A certificate of public convenience and necessity authorizing Windy Hill to construct, own, operate, and maintain an underground natural gas storage facility in four bedded salt caverns near the town of Brush, Morgan County, Colorado; (ii) a blanket certificate pursuant to part 157, subpart F of the Commissions regulations; (iii) a blanket certificate pursuant to part 284, subpart G of the Commission's regulations; (iv) authorization to provide storage services at market based rates; and (v) approval of a pro forma FERC Gas Tariff, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Specifically, Windy Hill proposes to construct and operate a high-deliverability salt dome natural gas storage facility, including compression facilities, near the town of Brush, Morgan County, Colorado. When completed, the project will have a total working gas capacity of 6 Bcf. The facilities will be capable of injection and withdrawal rates of 135 MMcf per day and 400 MMcf per day, respectively. Windy Hill also proposes to construct pipeline laterals to interconnect with the interstate pipeline systems of Cheyenne Plains Gas Pipeline Company, LLC and Colorado Interstate Gas Company, as well as the intrastate pipeline system of Public Service Company of Colorado.

Any questions regarding this application should be directed to J. Patrick Nevins, Partner, Hogan & Hartson, LLP, 555 Thirteenth Street, NW., Washington, DC 20004-1109, phone (202) 637-6441.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: November 30, 2005.

Magalie R. Salas,
Secretary.

[FR Doc. E5-6337 Filed 11-16-05; 8:45 am]

BILLING CODE 6717-01-P